FEDERAL COMMUNICATIONS COMMISSION

47 CFR Part 73

[DA 07-1127; MB Docket No. 03-142; RM-10539]

Radio Broadcasting Services; Glen Arbor, MI

AGENCY: Federal Communications Commission.

ACTION: Final rule.

SUMMARY: In response to a Petition for Rule Making filed by WKJF Radio, Inc., licensee of Station WJZQ, Channel 225C, Cadillac, Michigan, this document deletes the Channel 227A allotment at Glen Arbor, Michigan, in order to permit WKJF Radio, Inc. to modify the Station WJZQ facilities as set forth in its pending application (File BMLH-20020517AAG). With this action, the proceeding is terminated.

DATES: Effective April 23, 2007.

FOR FURTHER INFORMATION CONTACT: Robert Hayne, Media Bureau

(202) 418-2177.

SUPPLEMENTARY INFORMATION: This is a synopsis of the Report and Order in MB Docket No. 03-142, adopted March 7, 2007, and released March 9, 2007. The full text of this decision is available for inspection and copying during normal business hours in the FCC Reference Information Center at Portals II, CY-A257, 445 12th Street, SW., Washington, DC 20554. The complete text of this decision may also be purchased from the Commission's copy contractor, Best Copying and Printing, Inc., 445 12th Street, SW., Room CY-B402, Washington, DC 20554, telephone 1-800-378-3160 or http://www.BCPIWEB.com. The Commission will send a copy of this Report and Order in a report to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Michigan is amended by removing Channel 227A at Glen Arbor.

Federal Communications Commission.
John A. Karousos,
Assistant Chief, Audio Division, Media Bureau.

[FR Doc. E7-5564 Filed 3-27-07; 8:45 am]

BILLING CODE 6712-01-P